GENERAL SERVICES ADMINISTRATION

Public Building Service; Notice of Availability; Final Master Site Plan and Final Environmental Impact Statement for the Denver Federal Center, Lakewood, CO

AGENCY: Public Building Service, General Services Administration.

ACTION: Notice of Availability.

SUMMARY: In accordance with the National Environmental Policy Act of 1969, and the President's Council on Environmental Quality Regulations (40 CFR Parts 1500-1508), as implemented by General Services Administration (GSA) Order PBS P 1095.4D, GSA announces its Notice of Availability (NOA) of the Final Master Site Plan Final Environmental Impact Statement (FEIS) for the Denver Federal Center in Lakewood, Colorado. GSA proposes to implement a Master Site Plan for the Denver Federal Center, a federal facility, that addresses opportunities for future site redevelopment. The Draft Environmental Impact Statement presented two action alternatives, the Federal Quad Alternative and the Federal Mall Alternative; and a No Action Alternative. Subsequent to public review and comment, GSA determined that the Federal Quad Alternative, with modifications, would be the preferred alternative. The Federal Quad Alternative, with modifications, is the concept identified in the Final Master Site Plan.

DATES: GSA will execute a Record of Decision (ROD) based on the FEIS no sooner than March 3, 2008, or 30 days after the date of publication of this Notice of Availability in the Federal Register and after publication of the related notice by the Environmental Protection Agency.

ADDRESSES: To obtain copies of the Master Site Plan and FEIS, contact Lisa Dorsey Wild (formerly Morpurgo), Senior Project Manager, at the U.S. General Services Administration, Rocky Mountain Region, Denver Federal Center Service Center (8PD), P.O. Box 25546, Building 41, Denver Federal Center, Denver, CO, 80225-0546. Or visit the Web site at http://www.gsa.gov/dfcsiteplan and follow the instructions.

FOR FURTHER INFORMATION CONTACT: Ms. Lisa Dorsey Wild at (303) 236.8000 ext. 5039, by fax at 303-236-5328, e-mail at dfcsiteplan@gsa.gov, or mail at the above-listed address.

SUPPLEMENTARY INFORMATION: The Denver Federal Center is a 640-acre secured federal facility operated by GSA. The Federal Center was acquired in 1941 by the U.S. government and is currently used for office, research, and administrative purposes by 26 federal agencies. There are approximately 4 million square feet of space in approximately 50 active buildings at the Federal Center, and there are approximately 6,000 on-site employees. The site, formerly part of unincorporated Jefferson County, Colorado, was recently annexed into the City of Lakewood. Annexation has no affect on the federal ownership or management of the site. GSA recently sold 65 of the facility the City of Lakewood through the federal land disposal process for construction of an inter-modal transit station and relocation of St. Anthony Hospital. GSA proposes to implement a new Master Site Plan for the Federal Center that will address new opportunities for site development. The FEIS, prepared to comply with the National Environmental Policy Act (NEPA), evaluates the proposed Master Site Plan alternatives and identifies the environmental effects associated with implementing the proposed alternatives. The Draft Master Site Plan and draft Environmental Impact Statement released in April 2007, evaluated two action alternatives, the Federal Quad Alternative and the Federal Mall Alternative; and a No Action Alternative. Under the No Action Alternative, GSA would not implement a new Master Site Plan for the Federal Center. Though currently planned upgrades to site infrastructure would move forward contingent upon funding, existing resources would not be leveraged to attract capital to the site, a new vision for growth would not be established, and the value and appeal of the Federal Center site would not be maximized. Under the No Action alternative, it would become increasingly difficult to maintain the resources on the site to serve Federal tenants and overall community needs. During the public review and comment period conducted between May and June 2007, over 300 hundred individual comments were received from 198 tenants, neighbors, groups, city, state, and federal offices. The Federal Quad concept, with modifications, is identified in the Final Master Site Plan and as the preferred alternative named in the FEIS. The defining characteristic of the Federal Quad Alternative is the central “Quad” that would be located in the center of the Federal Center site. The enhanced streetscapes throughout the campus would encourage area employees and residents to walk to and from transit and into adjacent districts. The Quad would be the heart of the plan and would be woven into the fabric of the surrounding neighborhoods and commercial districts via road and land use connections. The Quad would be surrounded by complementary office buildings, including secure federal buildings, non-secure federal buildings, and research buildings. A total of 227 acres (or approximately 36 percent of the total site) would be designated for open space use. The Federal Quad Alternative includes a development plan with approximately 3.6 million gross square feet of new development, plus 1,400 residential units, organized around a formal open space/park area that suggests a university campus setting. The primary change in this alternative between the Draft Master Site Plan and the Final is additional residential units in the northwest area of the site in the vicinity of the anticipated transit-orientated development and intermodal station. The modified Federal Quad Alternative as presented in the Final Master Site Plan for the Federal Center reflects GSA's preferred development strategy.

Dated: January 24, 2008.
Steven M. Burke,
Acting Director, General Services Administration, DFC Service Center, PBS, Rocky Mountain Region.

[FR Doc. E8-1908 Filed 1-31-08; 8:45 am]

BILLING CODE 6820-BK-P